DEPARTMENT OF HOUSING AND URBAN DEVELOPMENT

[Docket No. FR-5601-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses AIR FORCE: Mr. Robert Moore, Air Force Real Property Agency, 143 Billy Mitchell Blvd., San Antonio, TX 78226, (210) 925-3047; ENERGY: Mr. Mark Price, Department of Energy, Office of Engineering & Construction Management, MA-50, 1000 Independence Ave. SW., Washington, DC 20585: (202) 586-5422; GSA: Mr. Flavio Peres, General Services Administration, Office of Real Property Utilization and Disposal, 1800 F Street NW., Room 7040, Washington, DC 20405, (202) 501-0084; INTERIOR: Mr. Michael Wright, Acquisition & Property Management, Department of the Interior, 1801 Pennsylvania Ave. NW., 4th Floor, Washington, DC 20006: 202-254-5522; NAVY: Mr. Steve Matteo, Department of the Navy, Asset Management Division, Naval Facilities Engineering Command, Washington Navy Yard, 1330 Patterson Ave. SW., Suite 1000, Washington, DC 20374; (202) 685-9426 (These are not toll-free numbers).

Dated: August 16, 2012.
Ann Marie Oliva,
Deputy Assistant Secretary, for Special Needs (Acting).

TITLE V, FEDERAL SURPLUS PROPERTY PROGRAM FEDERAL REGISTER REPORT FOR 08/24/2012

Suitable/Available Properties

Building

Arkansas

Sulphur Rock Radio Station

N. Main Street

Sulphur Rock AR 72579

Landholding Agency: GSA

Property Number: 54201220008

Status: Excess

GSA Number: 7-B-AR-576-AA

Comments: Building #1: 152 sf.; building #2:59 sf; radio tower

Florida

4 Structures

142 Keeper's Cottage Way

Cape San Blas FL 32456

Landholding Agency: GSA

Property Number: 54201230008

Status: Surplus

GSA Number: 4-D-FL-1265AA

Directions: Cape San Blas Lighthouse, Keeper's Quarters A, Keeper's Quarter B, & an Oil/Storage

Comments: Off-site removal only, all structures must remain together; eligible as Historic & will be conveyed w/a historic covenant; transferee must maintain structures in accordance with covenant; repairs needed; contact GSA 404-331-3625 for further details

Guam

Bldg. 6121

U.S. Naval Base

PITI GU 96540

Landholding Agency: Navy

Property Number: 77201230010

Status: Unutilized

Comments: Off-site removal only; 234 sf.; bathroom; deteriorating conditions; major renovations needed; restricted area; visitor's pass required & issued by Security Dept.

Bldg. 6120

Recreation Pavilion

PITI GU 96540

Landholding Agency: Navy

Property Number: 77201230011

Status: Excess

Comments: Off-site removal only; 286 sf.; deteriorating conditions; major renovations needed; restricted area; visitor's pass required & issued by Security Dept.

Bldg. 793

Fern St.

Santa Rita GU 96540

Landholding Agency: Navy

Property Number: 77201230012

Status: Excess

Comments: Off-site removal only; 2,411 sf.; bachelor enlisted quarters; deteriorating conditions; major renovations needed; restricted area; vistior's pass required & issued by Sec. Dept.

16 Buildings

S. Columbus Ave./Lotus Cir/Fern St.

Santa Rita GU 96540

Landholding Agency: Navy

Property Number: 77201230013

Status: Excess

Directions: 766 thru 768, 770 thru 773, 775 thru 777, 794, 795, 797 thru 800

Comments: Off-site removal only; 2,562 sf. per bldg.; deteriorating conditions; renovations needed; enlisted quarters; restricted area; visitor's pass required & issued by Security Dept.

13 Buildings

Jasmin/South Columbus/Lotus Circle St.

Santa Rita GU 96540

Landholding Agency: Navy

Property Number: 77201230014

Status: Excess

Directions: 754 thru 761, 781, 782, 784 thru 786

Comments: Off-site removal only 2,038 sf. per bldg.; bachelor enlisted quarters; deteriorating conditions; major renovations needed; restricted area; visitor's pass required & issued

17 Buildings

South Tipalao

Santa Rita GU 96540

Landholding Agency: Navy

Property Number: 77201230015

Status: Excess

Directions: 733, 735, 736, 737, 738, 739, 740, 741, 742, 744, 746, 747, 748, 749, 750, 751, 752

Comments: Off-site removal only; 2,038 sf. per bldg.; bachelor enlisted quarters; deteriorating conditions; major renovations needed; restricted area; visitor's pass required issued by

8 Buildings

Begonia St.

Santa Rita GU 96540

Landholding Agency: Navy

Property Number: 77201230016

Status: Excess

Directions: 717, 718, 719, 720, 721, 725, 726, 727

Comments: Off-site removal only; 2,038 sf. per bldg.; bachelor enlisted quarters; major renovations needed; restricted area; visitor's pass required & issued by Security Dept.

Guam

3 Buildings

Anthurium St.

Santa Rita GU 96540

Landholding Agency: Navy

Property Number: 77201230018

Status: Excess

Directions: 703, 704, 705

Comments: Off-site removal only; 2,562 sf. per bldg; bachelor enlisted quarters; deteriorating conditions; major renovations needed; restricted area; vistior's pass required & issued by

9 Buildings

Anthurium St.

Santa Rita GU 96540

Landholding Agency: Navy

Property Number: 77201230019

Status: Excess

Directions: 701, 706, 707, 708, 709, 710, 711, 712, 713

Comments: Off-site removal only; 2,038 sf. per bldg.; bachelor enlisted quarters; deteriorating conditions; major renovations needed; restricted area; vistior's pass required & issued by

Bldg. 612

Leary St., South Tipalao

Santa Rita GU 96540

Landholding Agency: Navy

Property Number: 77201230020

Status: Excess

Comments: Off-site removal only; 6,280 sf.; bachelor enlisted quarters; deteriorating conditions; major renovations needed; restricted area; vistior's pass required & issued by Security Dept.

Bldg. 605

U.S. Naval Base

Santa Rita GU 96540

Landholding Agency: Navy

Property Number: 77201230021

Status: Excess

Directions: Leary Street, South Tipalao

Comments: Off-site removal only; 4,776 sf.; bachelor enlisted quarters; deteriorating conditions; major renovations needed; restricted area; vistior's pass required & issued by Security Dept.

Bldg. 603

U.S. Naval Base

Santa Rita GU 96540

Landholding Agency: Navy

Property Number: 77201230022

Status: Excess

Directions: Leary Street, South Tipalao

Comments: Off-site removal only; 3,672 sf.; bachelor enlisted quarters; deteriorating conditions; major renovations needed; restricted area; vistior's pass required & issued by Security Dept.

7 Buildings

Leary Street, South Tipalao

Santa Rita GU 96540

Landholding Agency: Navy

Property Number: 77201230023

Status: Excess

Directions: 602, 604, 606, 607, 608, 609, 610

Comments: Off-site removal only; 3,164 sf. per bldg.; bachelor enlisted quarters; deteriorating conditions; major renovations needed; restricted area; vistior's pass required & issued by

Bldg. 601

U.S. Naval Base

Santa Rita GU 96540

Landholding Agency: Navy

Property Number: 77201230024

Status: Excess

Directions: Leary Street, South Tipalao

Comments: Off-site removal only; 2,906 sf.; bachelor enlisted quarters; deteriorating conditions; major renovations needed; restricted area; vistior's pass required & issued by Security Dept.

Bldg. 27

U.S. Naval Base

Santa Rita GU 96540

Landholding Agency: Navy

Property Number: 77201230025

Status: Unutilized

Comments: Off-site removal only; 1,750 sf.; steam plant; deteriorating conditions; major renovations needed; restricted area; vistior's pass required & issued by Security Dept.

Michigan

Natl Weather Svc Ofc

214 West 14th Ave.

Sault Ste. Marie Co: Chippewa MI

Landholding Agency: GSA

Property Number: 54200120010

Status: Excess

GSA Number: 1-C-MI-802

Comments: Previously unavailable; however, the property is `available' as a facility to assist the homess; 2230 sq. ft., presence of asbestos, most recent use—office

Minnesota

Noyes Land Port of Entry

SW Side of US Rte. 75

Noyes MN 56740

Landholding Agency: GSA

Property Number: 54201230007

Status: Excess

GSA Number: 1-G-MN-0593

Directions: One main bldg.; one storage; approx. 16,000 and 900 sf. respectively

Comments: Sits on 2.29 acres; approx. 17,000 sf. total of bldg. space; office/governmental

Pennsylvania

Old Marienville Compound

110 South Forest St.

Marienville PA 16239

Landholding Agency: GSA

Property Number: 54201230001

Status: Excess

GSA Number: 4-A-PA-808AD

Directions: 10 bldgs.; wood farm duplex; office/garage; pole bard; shop; (2) wood sheds; block shed; trailer; carport; toilet bldg.

Comments: Sq. ft. for ea. bldg. on property varies; contact GSA for specific sq. ft.; Forest Service Admin. complex; mold and lead identified; historic property

Utah

2 Buildings

9160 N. Hwy 83

Corinne UT 84307

Landholding Agency: GSA

Property Number: 54201230003

Status: Excess

GSA Number: 7-Z-UT-0533

Directions: T077 & T078; NASA Shuttle Storage Warehouses

Comments: Off-site removal only; approx. 3,200 sf. each; storage

Suitable/Available Properties

Land

California

Drill Site #26

Ford City CA 93268

Landholding Agency: GSA

Property Number: 54201040011

Status: Surplus

GSA Number: 9-B-CA-1673-AA

Comments: 2.07 acres, mineral rights, utility easements

Kansas

1.64 Acres

Wichita Automated Flight Service

Anthony KS 67003

Landholding Agency: GSA

Property Number: 54201230002

Status: Excess

GSA Number: 7-U-KS-0526

Comments: Agricultural surroundings; remedial action has been taken for asbestos removal

Missouri

Long Branch Lake

30174 Visitor Center Rd.

Macon MO 63552

Landholding Agency: GSA

Property Number: 54201230006

Status: Surplus

GSA Number: 7-D-MO-0579

Comments: 7.60 acres

Suitable/Unavailable Properties

Building

Alabama

Federal Bldg. & Courthouse

1118 Greensboro Ave.

Tuscaloosa AL 35401

Landholding Agency: GSA

Property Number: 54201220005

Status: Surplus

GSA Number: AL-0074-ZZ

Comments: 10,494 sf.; federal offices/courthouse; roof needs extensive repairs; severe leaks around drains, asbestos identified

District of Columbia

West Heating Plant

1051 29th St. NW

Washington DC 20007

Landholding Agency: GSA

Property Number: 54201140006

Status: Surplus

GSA Number: DC-497-1

Comments: Redetermination: 1.97 acres; current use: industry; transferee is required to remediate significant contaminants which includes arsenic, PCBs, and benzo (a) pyrene

Georgia

5 Acres

Former CB7 Radio Communication

Townsend GA 31331

Landholding Agency: GSA

Property Number: 54201210008

Status: Excess

GSA Number: 4-U-GA-885AA

Comments: 5.0 acres; current use: unknown; property located in 100 yr. floodplain-not in floodway and no impact in using property; contact GSA for more details

Idaho

Moscow Federal Bldg.

220 East 5th Street

Moscow ID 83843

Landholding Agency: GSA

Property Number: 54201140003

Status: Surplus

GSA Number: 9-G-ID-573

Comments: 11,000 sq. ft.; current use: office

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified, most current

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Maine

Columbia falls Radar Site

Tibbetstown Road

Columbia Falls ME 04623

Landholding Agency: GSA

Property Number: 54201140001

Status: Excess

GSA Number: 1-D-ME-0687

Directions: Buildings 1, 2, 3, and 4

Comments: Four bldgs. totaling 20,375 sq.ft. each one-story; current use: varies among properties

Maryland

Appraisers Store

Baltimore MD 21202

Landholding Agency: GSA

Property Number: 54201030016

Status: Excess

GSA Number: 4-G-MD-0623

Comments: Redetermination: 169,801 sq. ft., most recent use—federal offices, listed in the Natl Register of Historic Places, use restrictions

Consumer Products Safety Commission

10901 Darenestown Rd.

Gaithersburg MD 20878

Landholding Agency: GSA

Property Number: 54201220004

Status: Surplus

GSA Number: NCR-G-MR-1107-01

Directions: Property includes building and land

Comments: 37,543 sf.; office/warehouse space; secured area; however, will not interfere w/conveyance; contact GSA for further details

Michigan

CPT George S. Crabbe USARC

2901 Webber Street

Saginaw MI

Landholding Agency: GSA

Property Number: 54201030018

Status: Excess

GSA Number: 1-D-MI-835

Comments: 3891 sq. ft., 3-bay garage maintenance building

Beaver Island High Level Site

South End Road

Beaver Island MI 49782

Landholding Agency: GSA

Property Number: 54201140002

Status: Excess

GSA Number: 1-X-MI-664B

Comments: 89 sq. ft; current use: storage; non-friable asbestos and lead base paint present; currently under license to the CCE Central Dispatch Authority

Missouri

Whiteman-Annex No.3

312 Northern Hill Rd.

Warrensburg MO 64093

Landholding Agency: GSA

Property Number: 54201210003

Status: Surplus

GSA Number: 7-D-MO-0694

Comments: 120 sq. ft.; current use: support bldg. for radio tower; previously reported by AF

Montana

Boulder Admin. Site

12 Depot Hill Rd.

Boulder MT 59632

Landholding Agency: GSA

Property Number: 54201130016

Status: Excess

GSA Number: 7-A-MT-532-AA

Comments: 4,799 sq. ft.; recent use: office, repairs are needed

James F. Battin & Courthouse

316 North 26th Street

Billings MT 59101

Landholding Agency: GSA

Property Number: 54201210005

Status: Excess

GSA Number: 7-G-MT-0621-AB

Comments: 116,865 sf.; current use: office; extensive asbestos contamination; needs remediation

Nebraska

Decatur Microwave Repeater

Off County Rd. 31

Decatur NE 68020

Landholding Agency: GSA

Property Number: 54201220001

Status: Surplus

GSA Number: 7-D-NE-0535

Comments: 80 sf. for bldg.; current use (for bldg.): support bldg; 2.41 acres of land; property is fenced w/gate

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

New Jersey

Camp Petricktown Sup. Facility

US Route 130

Pedricktown NJ 08067

Landholding Agency: GSA

Property Number: 54200740005

Status: Excess

GSA Number: 1-D-NJ-0662

Comments: 21 bldgs. need rehab, most recent use—barracks/mess hall/garages/quarters/admin., may be issues w/right of entry, utilities privately controlled, contaminants

North Carolina

Greenville Site

10000 Cherry Run Rd.

Greenville NC 27834

Landholding Agency: GSA

Property Number: 54201210002

Status: Unutilized

GSA Number: 4-2-NC-0753

Comments: 49,300 sq. ft.; current use: transmitter bldg.; possible PCB contamination; not available-existing Federal need

Ohio

Oxford USAR Facility

6557 Todd Road

Oxford OH 45056

Landholding Agency: GSA

Property Number: 54201010007

Status: Excess

GSA Number: 1-D-OH-833

Comments: Office bldg./mess hall/barracks/simulator bldg./small support bldgs., structures range from good to needing major rehab

Army Reserve Center

5301 Hauserman Rd.

Parma Co: Cuyahoga OH 44130

Landholding Agency: GSA

Property Number: 54201020009

Status: Excess

GSA Number: I-D-OH-842

Comments: 29, 212, and 6,097 sq. ft.; most recent use: office, storage, classroom, and drill hall; water damage on 2nd floor; and wetland property

LTC Dwite Schaffner

U. S. Army Reserve Center

1011 Gorge Blvd.

Akron Co: Summit OH 44310

Landholding Agency: GSA

Property Number: 54201120006

Status: Excess

GSA Number: 1-D-OH-836

Comments: 25,039 sq. ft., most recent use: Office; in good condition

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of

Rager Ranger Station House

7615 Rager Rd.

Paulina Co: Crook OR 97751

Landholding Agency: GSA

Property Number: 54201220003

Status: Excess

GSA Number: 9-A-OR-0798

Comments: Off-site removal only; 1,560 sf.; residential; extensive rehabilitation needed; contact GSA for further details

Rhode Island

FDA Davisville Site

113 Bruce Boyer Street

North Kingstown RI 02852

Landholding Agency: GSA

Property Number: 54201130008

Status: Excess

GSA Number: 1-F-RI-0520

Comments: 4,100 sq. ft.; recent use: storage; property currently has no heating (all repairs is the responsibility of owner)

South Carolina

Naval Health Clinic

3600 Rivers Ave.

Charleston SC 29405

Landholding Agency: GSA

Property Number: 54201040013

Status: Excess

GSA Number: 4-N-SC-0606

Comments: Redetermination: 399,836 sq. ft., most recent use: office

South Dakota

Main House

Lady C Ranch Rd.

Hot Springs SD 57747

Landholding Agency: GSA

Property Number: 54201130011

Status: Surplus

GSA Number: 7-A-0523-3-AE

Comments: Off-site removal only; The property is a 2-story structure with 1,024 sq. ft. per floor for a total of 2,048 sq. ft.; structure type: Log Cabin; recent use: residential

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Virginia

Hampton Rds, Shore Patrol Bldg

811 East City Hall Ave

Norfolk VA 23510

Landholding Agency: GSA

Property Number: 54201120009

Status: Excess

GSA Number: 4-N-VA-758

Comments: 9,623 sq. ft.; current use: storage, residential

Washington

Log House

281 Fish Hatchery Rd.

Quilcene WA 98376

Landholding Agency: GSA

Property Number: 54201220006

Status: Excess

GSA Number: 9-I-WA-1260

Comments: Off-site removal only; 3,385 sf.; residential/office former Seattle Branch Bldg.

1015 Second Ave.

Seattle WA 98104

Landholding Agency: GSA

Property Number: 54201220007

Status: Excess

GSA Number: 9-G-WA-1259

Comments: 85,873 sf.; bank; several cracks due to earthquake; possible lead & asbestos; any renovations/new, construction will need approval from State Historic Preservation Off.

Wisconsin

Wausau Army Reserve Ctr.

1300 Sherman St.

Wausau WI 54401

Landholding Agency: GSA

Property Number: 54201210004

Status: Excess

GSA Number: 1-D-WI-610

Comments: Bldg. 12,680 sq. ft.; garage 2,676 sq. ft.; current use: vacant; possible asbestos; remediation may be required; subjected to existing easements; Contact GSA for more

Land

Arizona

Land

95th Ave/Bethany Home Rd

Glendale AZ 85306

Landholding Agency: GSA

Property Number: 54201010014

Status: Surplus

GSA Number: 9-AZ-852

Comments: 0.29 acre, most recent use—irrigation canal 0.30 acre

Bethany Home Road

Glendale AZ 85306

Landholding Agency: GSA

Property Number: 54201030010

Status: Excess

GSA Number: 9-I-AZ-0859

Comments: 10 feet wide access road

California

Parcel F-2 Right of Way

Seal Beach CA 90740

Landholding Agency: GSA

Property Number: 54201030012

Status: Surplus

GSA Number: 9-N-CA-1508-AI

Comments: 6331.62 sq. ft., encroachment

Drill Site #3A

Ford City CA 93268

Landholding Agency: GSA

Property Number: 54201040004

Status: Surplus

GSA Number: 9-B-CA-1673-AG

Comments: 2.07 acres, mineral rights, utility easements

Drill Site #4

Ford City CA 93268

Landholding Agency: GSA

Property Number: 54201040005

Status: Surplus

GSA Number: 9-B-CA-1673-AB

Comments: 2.21 acres, mineral rights, utility easements

Drill Site #6

Ford City CA 93268

Landholding Agency: GSA

Property Number: 54201040006

Status: Surplus

GSA Number: 9-B-CA-1673-AC

Comments: 2.13 acres, mineral rights, utility easements

Drill Site #9

Ford City CA 93268

Landholding Agency: GSA

Property Number: 54201040007

Status: Surplus

GSA Number: 9-B-CA-1673-AH

Comments: 2.07 acres, mineral rights, utility easements

Drill Site #20

Ford City CA 93268

Landholding Agency: GSA

Property Number: 54201040008

Status: Surplus

GSA Number: 9-B-CA-1673-AD

Comments: 2.07 acres, mineral rights, utility easements

Drill Site #22

Ford City CA 93268

Landholding Agency: GSA

Property Number: 54201040009

Status: Surplus

GSA Number: 9-B-CA-1673-AF

Comments: 2.07 acres, mineral rights, utility easements

Drill Site #24

Ford City CA 93268

Landholding Agency: GSA

Property Number: 54201040010

Status: Surplus

GSA Number: 9-B-CA-1673-AE

Comments: 2.06 acres, mineral rights, utility easements

Seal Beach RR Right of Way

West 19th Street

Seal Beach CA 90740

Landholding Agency: GSA

Property Number: 54201140015

Status: Surplus

GSA Number: 9-N-CA-1508-AF

Comments: 8,036.82 sq. ft.; current use: vacant lot

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Seal Beach RR Right of Way

Seal Beach

Seal Beach CA 90740

Landholding Agency: GSA

Property Number: 54201210006

Status: Surplus

GSA Number: 9-N-CA-1508-AH

Comments: 4,721.90 sf.; current use: vacant lot between residential bldg.

Seal Beach RR Right of Way

Seal Beach

Seal Beach CA 90740

Landholding Agency: GSA

Property Number: 54201210007

Status: Surplus

GSA Number: 9-N-CA-1508-AJ

Comments: 6,028.70 sf.; current use: vacant lot between residential bldgs.

Illinois

Former Outer Marker Compass

2651 West 83rd Place

Chicago IL

Landholding Agency: GSA

Property Number: 54201220002

Status: Excess

GSA Number: 1-U-I-797

Comments: .22 acres; current use: airport outermaker

Louisiana

Almonaster

4300 Almonaster Ave.

New Orleans LA 70126

Landholding Agency: GSA

Property Number: 54201110014

Status: Surplus

GSA Number: 7-D-LA-0576

Comments: 9.215 acres

Massachusetts

FAA Site

Massasoit Bridge Rd.

Nantucket MA 02554

Landholding Agency: GSA

Property Number: 54200830026

Status: Surplus

GSA Number: MA-0895

Comments: Approx 92 acres, entire parcel within MA Division of Fisheries & Wildlife Natural Heritage & Endangered Species Program

Nevada

RBG Water Project Site

Bureau of Reclamation

Henderson NV 89011

Landholding Agency: GSA

Property Number: 54201140004

Status: Surplus

GSA Number: 9-I-AZ-0562

Comments: Water easement (will not affect conveyance); 22+/− acres; current use: water sludge disposal site; lead from shotgun shells on <1 acre.

North Dakota

Vacant Land of MSR Site

Stanley Mickelsen

Nekoma ND

Landholding Agency: GSA

Property Number: 54201130009

Status: Surplus

GSA Number: 7-D-ND-0499

Comments: 20.2 acres; recent use: unknown

Pennsylvania

Approx. 16.88

271 Sterrettania Rd.

Erie PA 16506

Landholding Agency: GSA

Property Number: 54200820011

Status: Surplus

GSA Number: 4-D-PA-0810

Comments: Vacant land

Marienville Lot

USDA Forest Service

Marienville PA

Landholding Agency: GSA

Property Number: 54201140005

Status: Excess

GSA Number: 4-A-PA-807AD

Comments: 2.42 acres; current use: unknown

South Carolina

Marine Corps Air Station

3481 TRASK Parkway

Beaufort SC 29904

Landholding Agency: GSA

Property Number: 54201140009

Status: Excess

GSA Number: 4-N-SC-0608AA

Comments: 18,987.60 sq. ft. (.44 acres); physical features: swamp, periodic flooding, 5 ft. off

Unsuitable Properties

Building

California

2 Buildings

401 & 405 14th St.

Edwards AFB CA 93524

Landholding Agency: Air Force

Property Number: 18201230002

Status: Unutilized

Directions: 7177, 7179

Reasons: Secured Area

Comments: Public access not allowed; no alternative method to allow public access w/out comprising nat'l security

4259

741 Circle

Edwards AFB CA 93524

Landholding Agency: Air Force

Property Number: 18201230003

Status: Unutilized

Reasons: Secured Area

Comments: Public access not allowed; no alternative method to allow public access w/out comprising nat'l security

Maryland

North Beach Ranger Station

6610 Bayberry Dr.

Berlin MD 21811

Landholding Agency: Interior

Property Number: 61201230002

Status: Excess

Reasons: Floodway

Extensive deterioration

Comments: Documented deficiencies; extensive water damage; orginal structure wash into sea; located in 100 yr. floodplain; massive roof damage due to flooding; unstable foundation; unsound floors; relocation improbable; movement of bldg. will likely result in complete of property

Ohio

Washington County Memorial

U.S. Army Reserve Center

Marietta OH 45750

Landholding Agency: GSA

Property Number: 54201230005

Status: Excess

GSA Number: 1-D-OH-846

Reasons: Within 2000 ft. of flammable or explosive material

Comments: Triad Hunter Co. located within 2,000 ft. of property; company is in the oil and gas exploration business; 300-500 gal above ground tanks on co. grounds contain diesel fuel for their off road vehicles

Tennessee

9 Buildings

Y-12 Nat'l Security Complex

Oak Ridge TN 37831

Landholding Agency: Energy

Property Number: 41201230002

Status: Unutilized

Directions: 9416-24, 9949-04, 9949-29, 9949-35, 9949-49, 9949-89, 9720-12, 9720-18, 9949-47

Reasons: Secured Area

Comments: Public access denied; no alternative method to gain access to allow public access w/out comprising nat'l security

Land

Indiana

Vacant Land

Naval Support Activity

Crane IN 47522

Landholding Agency: Navy

Property Number: 77201230009

Status: Underutilized

Reasons: Secured Area

Comments: Located on restricted military explosive handling & classified electronic development installation; only authorized personnel; no alternative method for public access w/out comprising nat'l security

[FR Doc. 2012-20585 Filed 8-23-12; 8:45 am]

BILLING CODE 4210-67-P